OFFICE OF PERSONNEL MANAGEMENT

5 CFR Part 870

RIN 3206-AN21

Federal Employees' Group Life Insurance Program: Filing Deadlines for Court Review of Administrative Final Decisions; Withdrawal of Proposed Rule

AGENCY: U.S. Office of Personnel Management.

ACTION: Withdrawal of proposed rule.

SUMMARY: The United States Office of Personnel Management (OPM) issued a proposed rule on January 12, 2016 to amend the Federal Employees' Group Life Insurance (FEGLI) Program regulations to establish a timeframe for filing civil actions or claims against the United States based on 5 U.S.C. chapter 870 (Life Insurance). OPM is withdrawing the proposed rule to undertake further analysis of the subject matter referenced in the proposed rule.

DATES: The proposed rule published on January 12, 2016 at 81 FR 1336 is withdrawn effective March 8, 2016.

FOR FURTHER INFORMATION CONTACT: Ronald Brown, Policy Analyst, Planning and Policy Analysis, U.S. Office of Personnel Management, Room 4312, 1900 E Street NW., Washington, DC 20415; or FAX to 202-606-0636 Attn: Ronald Brown.

SUPPLEMENTARY INFORMATION: The United States Office of Personnel Management (OPM) issued a proposed rule on January 12, 2016, at 81 FR 1336. This proposed rule was intended to: (1) Establish a timeframe for filing legal action for judicial review of OPM or employing agency final action on FEGLI claims; and (2) provide a 3-year time limit for filing a court claim for review of agency or retirement system final decisions.

The OPM is withdrawing this proposed rule to undertake further analysis of the subject matter referenced in the proposed rule.

U.S. Office of Personnel Management.
Beth F. Cobert,
Acting Director.

[FR Doc. 2016-05118 Filed 3-7-16; 8:45 am]

BILLING CODE 6325-63-P